DEPARTMENT OF LABOR

Employment and Training Administration

Workforce Investment Act—Demonstration Grants; Solicitation for Grant Applications—Prisoner Re-Entry Initiative

Announcement Type: New. Solicitation for Grant Applications.

Funding Opportunity Number: SGA/DFA PY-04-08.

Catalog of Federal Domestic Assistance (CFDA) Number: 17.261.

DATES: The closing date for receipt of applications under this announcement is July 13, 2005. Applications must be received no later than 5 p.m. (eastern time). Application and Submission information is explained in detail in Section IV of this SGA.

SUMMARY: The President's Prisoner Re-entry Initiative seeks to strengthen urban communities characterized by large numbers of returning prisoners through an employment-centered program that incorporates mentoring, job training, and other comprehensive transitional services. This program, which involves several Federal agencies, is designed to reduce recidivism by helping inmates find work when they return to their communities, as part of an effort to build a life in the community for everyone. DOL will be awarding grants under this competition to faith-based and community organizations (FBCOs) to be the agencies carrying out this demonstration. The Department of Justice will subsequently award competitive grants to State agencies to provide pre-release services to prisoners who will be returning to the communities served by the DOL grants. The Department of Housing and Urban Development may in future years provide funds under this initiative for housing services and the Department of Health and Human Services is also assisting in the design and implementation of the initiative regarding substance abuse and mental health treatment. We hope to serve 6,250 released prisoners during the first year of this initiative with projects operating in 30 communities across the country. Each lead local agency awarded a DOL grant may choose to directly provide services to released prisoners; provide sub-grants to other FBCOs to provide these services; or use a mixed approach of providing some direct services themselves while using other FBCOs to also provide services. We expect that most lead local agencies will need to sub-grant some portion of their award to other FBCOs. If the lead local agency is using sub-grantees, it will be responsible for providing technical assistance and oversight to these other FBCOs. Lead local FBCOs applying for these grants will identify as part of their application the need in the community that they plan to serve; their proposed FBCO sub-grantees; their plan for serving released prisoners; and their partnerships with the criminal justice system, Workforce Investment Board, housing authority, and mental health and substance abuse treatment providers.

SUPPLEMENTARY INFORMATION:

I. Funding Opportunity Description

1. Background

Experts estimate that each year more than 600,000 inmates are released from Federal and State prisons and return to their communities and families. The return of these ex-prisoners threatens the fragile cohesion in many of the most troubled neighborhoods in America.

Without help, a majority of ex-prisoners do in fact return to criminal activity. For example, according to the U.S. Department of Justice, almost three out of five returning inmates will be charged with new crimes within three years of their release from prison and two out of five will be re-incarcerated.

Released prisoners face a myriad of challenges that contribute to a return to criminal activity, re-arrest, and re-incarceration. Joblessness among ex-prisoners has been broadly linked to recidivism rates. Statistics demonstrate that even before incarceration, adult prisoners demonstrate weak or non-existent ties to the workforce. Data from 1997 show that nearly one-third of adult prisoners were unemployed in the month before their arrest, compared to seven percent unemployment in the general population.¹ Post-incarceration, employment rates only get worse—unemployment among ex-prisoners has been estimated at between 25 and 40 percent. Likewise, prisoners also demonstrate low levels of educational attainment. Nineteen percent of adult State prisoners are completely illiterate and 40 percent are functionally illiterate; ² over half of State parole entrants were not high school graduates and as many as eleven percent had only an eighth grade education or less.³

¹ Petersilia, 2002. When Prisoners Come Home: Parole and Prisoner Reentry.

² Rubinstien, 2001 as quoted in Petersilia, 2002.

³ Petersilia, 2002.

Research has also broadly documented the substance abuse and mental health issues of ex-prisoners—factors that are likely to contribute to poor education levels, un-employability, and a return to criminal activity. A study of parolees from State prisons in 1999 found that 84 percent had been using an illegal drug or abusing alcohol at the time of their offense. One-quarter had been alcohol dependent and one-quarter had been IV drug users. Fourteen percent had a mental illness and twelve percent were homeless at the time of their arrest. In some States, nearly one-quarter of parole revocations were related to drug-related violations.⁴ Estimates of mental illness among the prison population vary. One study found that sixteen percent of State prison and local jail inmates had a mental illness as did seven percent of Federal prisoners. Among detainees with a mental disorder, 72 percent also had a substance abuse disorder.⁵ In a survey of prisoners, one-fourth of male adults and more than one-third of female adults reported having been treated at some time for a mental or emotional problem.⁶ Only one-third of adult male detainees and one-fourth of females who needed services for severe mental disorders received treatment in jail.⁷

⁴ Hughes, T.A., Wilson, D.J., and Belk, A.J., 2001, Trends in State Parole, 1990-2000. Bureau of Justice Statistics, Special Report, NCJ 184735.

⁵ Ditton, P.M., 1999, Mental Health and Treatment of Inmates and Probationers, Washington, DC: U.S. Department of Justice.

⁶ Harlow, C.W., 1998, Profile of Jail Inmates, 1996, Bureau of Justice Statistics Special Report, Washington, DC: U.S. Department of Justice, NCJ164620.

⁷ Substance Abuse and Mental Health Services Administration, 2002, Report to Congress on the Prevention and Treatment of Co-occurring Substance Abuse Disorders and Mental Disorders.

In returning to criminal activity, ex-prisoners contribute to the presence of violence and crime in already struggling neighborhoods and reduce their chances of living healthy and positive lives and strengthening their families. Research indicates that parental loss is related to a host of poor outcomes for children that include poverty, drug abuse, educational failure, criminal behavior, and premature death. Healthy and consistent relationships between parents and children strengthen the community by positively impacting both parent and child generations. Ex-offenders who maintain strong family and community ties have greater success in reintegrating into the community and avoiding incarceration.⁸

⁸ Hairston, 1991; Muston, 1994; Nelson, 1999.

In order to successfully reintegrate into the community it is essential that ex-offenders possess the skills and support necessary to enter and compete in the workforce. The Prisoner Re-entry Initiative is designed to draw on the unique strengths of faith-based and community-based organizations and to rely on them as a primary partner for social service delivery to ex-prisoners by providing a direct link into the communities to which they are returning. It also seeks to coordinate the provision of these services with supervision of these released prisoners to ensure they are held accountable for their behavior upon release.

Community-based partners are well suited for this work because they can provide the resources and infrastructure that are necessary to intervene in the lives of returnees and interrupt cycles of crime and incarceration. This grant will rely heavily on FBCOs to develop relationships and ensure connections to rehabilitation services for the formerly incarcerated.

In addition, FBCOs will be utilized in this grant because evidence indicates that faith-based and community institutions are among the strongest, most trusted institutions in the urban neighborhoods to which the majority of released inmates will return. Local faith-based and community institutions are a significant presence, with many resources at their command—including buildings, volunteers, and a tradition of outreach and service.⁹ Churches, mosques, temples, and community centers are especially significant in poor urban areas where FBCOs have historically had a strong presence. The additional trust that many FBCOs have earned outside urban centers is invaluable, since collaboration and communication with public, private and nonprofit providers and policymakers are essential to helping those in resource-poor neighborhoods.

⁹ Branch, 2002. Faith and Action: Implementation of the National Faith-Based Initiative for High-Risk Youth, Public/Private Ventures.

Many FBCOs also possess a proven ability to work collaboratively with other service providers and justice agencies for the delivery of social services. This is an invaluable asset as the FBCOs that do remain in poor urban neighborhoods are typically small and have limited financial resources. For them to effectively ensure connections to job training and social services, it is critical that they build collaborations with other public and private organizations.

A substantial number of inner-city faith-based and community leaders already have re-entry programs. This initiative will help develop and expand these programs that provide job training, housing, mentoring and transitional services that help ex-offenders avoid recidivism and become contributing members of their communities.

Recognizing the work that has already been done under initiatives funded by the U.S. Departments of Justice, Labor, Housing and Urban Development and Health and Human Services, this initiative will complement existing ex-offender initiatives for which the data show positive impacts on rates of recidivism, employment, and substance abuse.

2. Objectives

The Prisoner Re-entry Initiative is designed to strengthen urban communities through an employment-centered program that incorporates mentoring, job training, and other comprehensive transitional services. This program seeks to reduce recidivism by helping inmates find work when they return to their communities, as part of an effort to build a life in the community for everyone. In the local areas served through this initiative, FBCOs will provide comprehensive and coordinated services to ex-offenders in the following three areas:

• Employment: Employment is a critical stabilizing factor for ex-offenders and this initiative will stress job placement, job retention, and increasing the earnings potential of released prisoners. FBCOs will offer job training and job placement services in coordination with business, local One-Stop Centers, educational institutions, and other employment providers. Partnering faith-based and community organizations will provide each program participant with work-readiness, soft skills training, mentoring, job placement or referral for job placement, and post-placement support. The applicant must provide educational services and hard skills training through vouchers. These services must be provided by organizations that grant industry-recognized credentials. These vouchers should be used to supplement the limited supply of individual training accounts available through the workforce system.

• Housing: Because adequate housing for ex-offenders is an important component of successful reentry, the initiative will stress both satisfactory transitional housing and the movement from transitional to permanent housing. Funds are not currently available under this initiative to provide housing services for participants, but the grants will require that linkages be developed at each site to provide necessary housing services to participants. Subject to the availability of appropriations, Federal funds to provide housing services may be added to these grants in future years.

• Mentoring: FBCOs will provide post-release mentoring and other services essential to reintegrating ex-offenders in coordination with the corrections, parole, and probation structure. Participating adult ex-offenders will be matched with appropriate mentors who will be primarily responsible for supporting the returnee in the community and the work place. Mentors will offer support, guidance, and assistance with the many challenges faced by ex-offenders.

As described above, local FBCOs will be primarily responsible for ensuring connections to and delivering services to program participants to achieve the main goals of long-term and meaningful employment, reduction of criminal involvement, adequate transitional housing, social connection, mental health and substance abuse counseling, and other wraparound support services as needed. Funds to be awarded by the Department of Justice under a separate solicitation will support the activities of the criminal justice partners, both pre-release and during the time released prisoners may be under supervision in the community.

3. Design and Structure of the Initiative

What Is the Overall Structure of This Initiative?

We hope to serve 6,250 released prisoners during the first year of this initiative, with projects operating in 30 communities across the country. Under this announcement, DOL will be awarding grants to FBCOs to oversee the provision of re-entry services in their community. DOJ subsequently will award competitive grants to State agencies to provide pre-release services for prisoners returning to the communities that are awarded DOL grants.

Each lead local agency awarded a DOL grant may choose to directly provide services to released prisoners; provide sub-grants to other FBCOs to provide these services; or use a mixed approach of providing some direct services themselves while using other FBCOs to also provide services. We expect that most lead local agencies will need to sub-grant some portion of their award to other FBCOs. If the lead local agency is using sub-grantees, it will be responsible for providing technical assistance and oversight to these other FBCOs.

FBCOs applying for these grants will identify as part of their application the need for this Federal support in the community that they plan to serve; their FBCO sub-grantees; and their plan for providing services to released prisoners. They must also demonstrate that they have established partnerships with the criminal justice system, local Workforce Investment Board, and the local housing authority. They must also identify their plan to leverage other Federal, State, or local funding, as well as private funding sources, to provide other wraparound support services that are not directly funded through this initiative such as substance abuse and mental health treatment.

Who Will Be the Grant Recipients Under This Initiative?

The recipients of the DOL grants will be faith-based and community organizations that are located in or have a staff presence in the urban community being served, and that have the capacity to serve as the lead agency under this initiative, which in some cases will mean providing technical assistance and oversight to other FBCOs.

What Types of Communities Will Be the Focus of These Grants?

We are looking to award grants in urban communities that are heavily impacted by large numbers of prisoners returning to their community each year, particularly those affected by high rates of recidivism. A large metropolitan area could include more than one community appropriate for a project under this initiative. For example, DOL could award grants to lead FBCOs in more than one community within the City of Los Angeles and surrounding areas. Therefore, you may propose to serve a sub-area within a larger metropolitan area or an entire small or medium-sized city. Given the amount of funds available and the number of communities that we expect to serve, we expect that an average of 200 released prisoners per community will be served in the first year.

How Large a Grant Should I Apply for?

We anticipate that FBCOs will receive grants of approximately $660,000 to cover their first year of operations. You may request a larger or smaller amount based on the size of the community that you propose to serve, but deviations from this amount must be clearly justified in your application.

How Much Money Should the Lead FBCO Reserve for Providing Program Administration, Including Technical Assistance and Oversight of the Small FBCOs?

Limit the share of funds reserved for program administration, including technical assistance and oversight, to 10 percent of the amount for which you are applying. The remaining funds should be used to provide services to returning prisoners. The application should specify the share of funds the applicant will use for program administration versus services.

If the Lead FBCO Is Planning To Make Sub-grants to Other FBCOs, Does it Need To Make These Awards Competitively?

Grantees are required to have written procurement standards under DOL regulations (29 CFR 95.44). The selection of sub-grantees should be conducted, to the maximum extent practicable, in a manner designed to ensure full and open competition (see 29 CFR 95.43). Where a provider is selected non-competitively, the grantee must be able to justify why it was not practicable to compete the selection, in accordance with its procurement standards. The fact that the sub-awardee was identified in the grant application does not alone suffice to demonstrate such impracticability. The decision and justification for a non-competitive selection is susceptible to questioning upon audit. DOL procurement regulations at 29 CFR Part 95 do not contain standard provisions for non-competitive selections.

In Preparing Their Applications, How Much Effort Should FBCOs Put Into Identifying the Small FBCOs and Local Partnerships for These Projects?

If you are planning to provide sub-grants to others FBCOs, you should use the three-month application period to identify and competitively select these sub-grantees and develop strong partnerships in the community that you propose to serve. Depending on your procurement procedures, this could be sufficient time for you to conduct a competition or to otherwise select the FBCOs that will be your sub-grantees.

Lead FBCOs are expected to demonstrate connections to the criminal justice system that will allow referrals of released prisoners who will be returning to the community, as well as coordination with parole and probation officers. We also encourage lead FBCOs to use this three-month period to develop or strengthen partnerships with the Workforce Investment Board (WIB) so that program participants will be able to receive services from local One-Stop Centers. The application must include letters of support from the local Workforce Investment Board and from cooperating entities in the criminal justice system. Lead FBCOs should also demonstrate linkages and cooperative partnerships with local housing authorities, substance abuse and mental health treatment providers, and other organizations that provide services necessary to meet the needs of returning prisoners.

What if Two or More FBCOs Submit Separate Applications To Serve the Same Community or Metropolitan Area?

If more than one proposal to serve the same community or metropolitan area are rated highly, we will determine whether the community or metropolitan area is large enough to support more than one project.

Can a National or Regional FBCO Apply To Serve Multiple Metropolitan Areas?

Yes, but you must submit a separate application for each metropolitan area that you propose to serve and you must demonstrate that you have an existing presence in each metropolitan area for which you apply. Single proposals applying to serve multiple metropolitan areas will not be considered.

Can an FBCO Submit Two or More Applications For the Same Metropolitan Area?

We expect that most FBCOs will propose to serve multiple communities within a metropolitan area (for example, different neighborhoods). In most cases, we expect to receive a single application covering all communities that are proposed to be served within a single metropolitan area. However, for very large metropolitan areas, you may choose to submit separate proposals for distinct communities (e.g., the Bronx and Brooklyn).

What Is the Target Group To Be Served Under These Grants?

Generally, grantees should plan to serve individuals 18 years old and older who have been convicted as an adult and imprisoned pursuant to an Act of Congress or a State law, and who have never been convicted of a violent or sex-related offense. Additional information on eligible beneficiaries is provided in Section III (1).

What Are Allowable Uses of Grant Funds?

DOL grant funds can be used to provide a variety of services to returning prisoners, including workforce development services, job training, on-the-job training, work experience, basic skills remediation, counseling and case management, mentoring, and other reentry services. DOL grant funds may not be used for substance abuse treatment services. DOL grant funds should also not be used for pre-release services other than recruitment, introductory meetings, orientations, and other activities necessary to establishing program connections with prisoners prior to their release. The DOJ grant to State agencies will provide pre-release services.

Will There Be a Planning Period After Grant Award?

FBCOs will be allowed up to four months to put into place their various local partnerships and to hire staff. The probability of continuation of grants beyond the first year will be greatly reduced for those grantees that do not begin providing services by the end of the first four months.

How Will Success Be Measured Under These Grants?

Four outcome measures will be used to measure success in these grants: entered employment rate, employment retention rate, earnings change, and recidivism rate. In addition, grantees will report on a number of leading indicators that will serve as predictors of success. Leading indicators will include: Enrollment rate; participation in education/training, workforce preparation, mentoring, and community service; attainment of degrees and certificates; reduced substance abuse; proportion of enrollees in stable housing; and proportion of enrollees complying with parole conditions. In applying for these grants, FBCOs and their sub-grantees agree to submit updated Management Information System (MIS) data on enrollee characteristics, services provided, placements, outcomes, and follow-up status.

Will There Be an Evaluation of This Initiative?

There will be a formal evaluation of this initiative. In applying for these grants, lead FBCOs and their sub-grantees agree to cooperate in this evaluation by providing enrollment and participation data and other information during all years of the project and to participate in a random assignment evaluation during the third and fourth years of the project.

4. Guidelines for Technical Proposal

How Should I Organize My Technical Proposal?

Organize your technical proposal to answer the questions below. Each proposal must apply for funds for a single metropolitan area. The criteria below will be used to evaluate your proposal. Points will be deducted from applications that are not responsive to these questions. The technical questions are as follows:

#1. What is the need for the project in the community to be served by the grant? (20 points) Identify the need in the community that you propose to serve through your grant and make a case for the need for the project in that area. Demonstrate how your community meets the requirement of being an urban area heavily impacted by high numbers of returning prisoners and high rates of recidivism. Use census tract data from the 2000 census to show the population of the community, its poverty rate, and its unemployment rate. Use local law enforcement data to show the crime rate and recidivism rate for the community and how this compares with the State or county as a whole. If there are particular neighborhoods within the city in which you plan to focus this grant, describe these neighborhoods and provide available data specific to that area. We recognize that data might not be readily available on the number of offenders returning to your community who have never committed a violent crime, and so for the purpose of establishing need (but not for determining eligibility for services once the program starts) you can use data on the number of returning prisoners whose most recent offense was non-violent. Use data that is available from the State to estimate the number of non-violent offenders returning each year to your community, and how this compares to other areas in the State. If possible, provide such data for the specific neighborhoods that you plan to serve rather than county-wide data. If such data are not available from your State at the sub-county level, data on the number of returning non-violent prisoners by county from the National Corrections Reporting Program (NCRP) will be available on ETA's web page at www.doleta.gov. Please note, however, that the list on our web site will only include the 108 counties with the largest number of returning prisoners, and will not include the States of Alaska, Delaware, Idaho, Massachusetts, Montana, New Mexico, Rhode Island, Vermont, and Wyoming. You can apply to serve a community in a county that is not on this list. If you are applying from a community in a county that is not included, provide the best data that is available. Applicants will not be penalized for being in a State that does not participate in the NCRP reporting system.

#2. What Is the Project Design and Service Strategy? (25 points) Describe the project design and service strategy for each of the following required program components.

How Do You Plan To Increase the Employment Opportunities of Released Prisoners Who You Will Be Serving?

Describe how you will use funds available under this grant to increase the employment opportunities of released prisoners. You and your FBCO sub-grantees can directly provide assessment services, work-readiness training, job placement, and post-placement support. Vouchers or another mechanism of choice should be provided to participants needing educational services or hard skills training. These vouchers should be used to supplement the limited supply of individual training accounts available through the workforce investment system. Educational services and hard skills training must be provided by organizations that grant industry-recognized credentials. Discuss how you will conduct an initial assessment of each individual's educational achievement and employability. Describe how you will provide job readiness training for individuals in your program, and help them explore career options. Describe the follow-up services that you will provide to individuals. Be sure to indicate how many direct-service staff will be hired with these grant funds.

Often a condition of release is to find employment quickly. How will you help these persons find a job soon after their release from prison? Describe your use of job developers and career counselors. Describe how you will work with employers to identify and create job openings for these persons. Discuss possible ways of building career ladders into your job placements. Discuss how you will emphasize a demand-driven approach in job development, seeking jobs in high-growth and high-demand occupations. Describe links to local One-Stop Centers and service providers under the Workforce Investment Act in the urban area that you will serve. Discuss strategies to ensure that released offenders have the forms of identification needed to obtain employment. Discuss the possibility of having local employers serve on an advisory board for you to develop job placements that are both geared to local demand occupations and open to ex-offenders. Discuss whether you will be using the Work Opportunity Tax Credit or Federal Bonding Program in helping released prisoners find jobs. Discuss the possible use of on-the-job training contracts to help place released prisoners in jobs in which they can learn a skill. Discuss transitional employment approaches that allow persons with little or no labor market experience to gradually progress to jobs with more responsibility and higher pay. Will you offer Try-Out Employment packages to employers in which you pay for the first several weeks of wages to see if the employee is going to succeed?

Describe possible links to local community colleges and trade schools for individuals seeking job training or to continue their education in the urban area that you will be serving. Many released prisoners will have low reading levels. How will you increase the literacy levels of these individuals? Many released prisoners will also lack a high school diploma. How will you assist them to receive a GED or attain a high school diploma? How do you plan to increase the employment opportunities for released prisoners who have disabilities, including psychiatric, learning, and developmental disabilities?

Also discuss how you will make sure that individuals you serve have transportation to their work sites. Will you assist individuals to learn to drive and get a drivers license? Will you help individuals resolve warrants for past driving offenses that may prevent them from driving now? Also discuss whether you will pay for work clothes and work tools to get individuals started in jobs. Also discuss the sustainability of these employment activities after Federal grant funds cease.

How Will You Provide Housing Services to Released Prisoners?

Funds are not currently available under this initiative to provide housing services for participants, but the grants will require that linkages be developed in the community to provide necessary housing services to participants. Describe potential linkages with local agencies that provide housing services. Describe the technical assistance that you will provide to sub-grantees to help them develop such linkages. Discuss potential partnerships to provide both transitional housing and permanent housing to released prisoners. Please note that McKinney Vento Supportive Housing Program (SHP) transitional and permanent housing funded through the Continuum of Care application process cannot be used for ex-offenders. Discuss options for assisting released prisoners who need to put a deposit on an apartment. Discuss how you will ensure that appropriate housing services are provided to released prisoners with physical and mental disabilities. Please note that Federal funds to provide housing services may be available for these grants in future years. If funds are made available for these purposes grantees will be required to expend funds in accordance with applicable Department of Housing and Urban Development regulations.

How Will You Provide Mentoring for the Released Prisoners Who You Will Be Serving?

We expect that mentoring will be a key part of this initiative; that you will be able to offer mentors to each of the released prisoners who desire these services enrolled during the first year; and that mentors will be provided by faith-based and community organizations. Discuss your plans for providing mentors to released prisoners. Describe any experience that the lead FBCO has in operating mentoring programs or how you will develop this capacity. If you are using sub-grantees, describe the experience that your FBCO sub-grantees have in operating mentoring programs or how you will develop this capacity in them. How will the lead FBCO involve other local faith-based and community organizations in recruiting mentors for this project? What training will you provide to mentors? How will you make sure that appropriate mentoring is available to released prisoners with physical and mental disabilities? How do you plan to match the released prisoners with appropriate mentors, taking into consideration factors such as age, gender, life experiences, and career interests? If you plan to make use of peer mentoring in your program, are you aware of possible State prohibitions against ex-offenders associating with known felons? Do you plan to use former prisoners that have successfully reintegrated back into society to mentor recently released prisoners? Do you expect to be able to sustain this mentoring component after Federal grant funds cease? How will you ensure that the mentoring programs funded through this project comply with Workforce Investment Act and Establishment Clause guidelines that restrict Federal funding of inherently religious activities (worship, instruction, and proselytizing) and guarantee program participants' rights to free exercise of religion?

How Will You Secure Alcohol and Drug Treatment and Other Health and Social Services to Released Prisoners Who Require Such Assistance?

Provide examples of local partnerships that you have developed to secure support services for released prisoners. Because grant funds cannot be used to provide alcohol and drug treatment, give examples of other resources that are available to provide such services. Also give examples of local partnerships you have developed to provide physical and mental health services. Many released prisoners will be under court orders to pay child support and/or restitution. How will you assist these individuals in complying with these court orders? Discuss whether you will help individuals open checking accounts at banks. How will you make sure that you have mental health services available to released prisoners who need such services? Discuss plans for providing any other social services that you anticipate that returning prisoners will need. It is also important to be able to demonstrate the ability to provide access to and coordination with mainstream health, social services, and employment resources for which non-violent ex-offenders may be eligible. These programs include, but are not limited to, Medicaid, Social Security Insurance Disability Benefits, Children's Health Insurance Program, Temporary Assistance for Needy Families, Food Stamps, and services funded through the Mental Health Block Grant and Substance Abuse Block Grant, Workforce Investment Act, and Veterans Health Care.

#3. How will the lead FBCO and any sub-grantees work with the criminal justice system in having released prisoners referred to the program and in coordinating program services with community supervision and law enforcement agencies? (20 points) Reentry by its very nature must start behind the walls of an institution, whether the institution is a prison, jail, or halfway house. As a result, a cooperative partnership with corrections agencies is a critical component of this initiative. Applicants must demonstrate the existence of a collaboration with corrections agencies that will:

• Identify potential program participants prior to release, including a formalized referral and intake process from State or Federal prisons, and in some case, local jails.

• Identify specific needs of those participating in the program.

• Enable employment with identified program participants to begin within 6 months after release.

• Facilitate access to corrections facility for work with offenders prior to release.

• Coordinate provision of services and mentoring with community supervision.

Released offenders often have terms of post-release supervision that may include reporting requirements, drug and/or alcohol treatment, counseling, etc. Failure to meet the terms of release often results in revocation of probation or parole. A critical component of a successful application will be a demonstration of a partnership between the applicant and local representatives of law enforcement, including police, probation and parole, to ensure coordination and cooperation in accessing services to fulfill these terms of release. Please note that restrictions on pre-release services are discussed in section I.3.

#4. What is the quality and experience of your organization to serve as a lead local agency in overseeing this initiative? (25 points) Describe your organization and its qualifications for serving as the lead local FBCO in this initiative. How long has your organization been in existence? What services and programs has it provided in the urban area to be served by the grant? If you are planning to use sub-grantees, discuss previous instances in which the organization has overseen or coordinated the work of other FBCOs. Discuss previous instances in which the organization has provided technical assistance to other FBCOs. Discuss the experience of the organization in operating social service programs, including the results of those programs (in terms of individual service outcomes). Discuss any specific experience relating to working with community-based and faith-based organizations. Describe your experience working with criminal justice agencies. Describe the qualifications of key staff persons of your organization who may work on this project, and their specific experience relating to this project. Also describe previous experience of the organization in operating grants from either Federal or non-Federal sources. Describe the fiscal controls in place in your organization. What is your organization's current annual budget? Discuss how you will provide fiscal oversight of sub-grantees. Describe your management plan for overseeing and providing technical assistance to any sub-grantees.

If you plan to use sub-grantees, describe the faith-based and community organizations that you propose to use for the project. Describe their experience in operating workforce and social service programs and the results of those programs. Describe any specific experience operating programs for persons with alcohol or drug addictions and persons with psychiatric disabilities. Describe any specific experience recruiting or overseeing mentors, and the number of mentors they have involved in their programs. Describe the experience and qualifications of their staff persons who may have a role in this project.

#5. What will be the results and cost-effectiveness of your project and what non-Federal funds will you be able to leverage for the project? (10 points) Describe the costs of this project in relation to the expected benefits of services provided to released prisoners. For example, compare the costs of incarceration for a year with your expected cost-per-participant. Also, compare your per-participant training and employment costs with those of other institutions. Also discuss your expected performance outcomes (in terms of entered employment rate, employment retention rate, earnings change, and recidivism rate) and your plan for collecting, tracking, and reporting data on these outcomes. Describe any non-Federal funds that you expect to be able to leverage for this project.

II. Award Information

What Type of Assistance Instrument Will Be Awarded Under This Initiative?

Funds will be awarded under this initiative through grants for an initial period of one year, with up to three additional option years depending on the availability of funds and demonstrated performance.

What Is the Expected Number of Awards?

We expect to award grants for 30 projects.

What Is the Total Amount Expected To Be Awarded Through This Announcement?

DOL expects to award a total of $19.84 million in initial grants through this announcement.

What Is the Expected Amount of Individual Awards?

DOL expects that initial awards will average $660,000.

III. Eligibility Information

1. Eligible Applicants

Am I an Eligible Applicant for These Grants?

You are eligible to apply for the DOL grants if you are a faith-based or community-based organization and are located within or have a staff presence within the urban community that is the focus of your grant application. Urban communities are those that are located within Urbanized Areas or Urban Clusters, as designated by the Census Bureau in the 2000 Census.

National or regional FBCOs may submit separate proposals for more than one metropolitan area, but applicants must demonstrate that they have a presence in each metropolitan area for which they submit a separate application for each metropolitan area.

Can an FBCO Be Listed as a Sub-Grantee in More Than One Application?

Yes, but if an FBCO is listed as a sub-grantee in two winning proposals, it will only be allowed to receive a sub-grant award from one grant.

Who Is Eligible To Be Served Under These Grants?

Individuals 18 years old and older who have been convicted as an adult and imprisoned pursuant to an Act of Congress or a State law, and who have never been convicted of a violent or sex-related offense can be served with these grants. Individuals should be enrolled in the program within 180 days after their release from prison or a halfway house. Up to 10 percent of individuals served can be enrolled over 180 days from their prison release. Services may be provided to individuals who have been released from prison and are residing in a halfway house.

Non-violent offenses are those offenses described in State and Federal statutes encompassing property crime, drug offenses, and public order crimes. Property crimes include, but are not limited to: Burglary, larceny, motor vehicle theft, and receiving stolen property. Drug crimes include, but are not limited to: Possession of a controlled substance, trafficking in a controlled substance, and possession of drug paraphernalia. Public order offenses include, but are not limited to: commercial vice, gambling, animal cruelty and drinking while intoxicated.

If an FBCO exhausts its supply of eligible offenders during the course of the grant period, it may request approval from the DOL grant officer to expand its eligible population. Approval of such a request will require the use of a validated risk assessment tool and consideration of the nature of any prior violent offense in consultation with the Department of Justice.

This program is subject to the provisions of the “Jobs for Veterans Act,” Public Law 107-288, which provides priority of service to veterans and spouses of certain veterans for the receipt of employment, training, and placement services in any job training program directly funded, in whole or in part, by the Department of Labor. Please note that, to obtain priority of service, a veteran must meet the program's eligibility requirements. ETA Training and Employment Guidance Letter (TEGL) No. 5-03 (September 16, 2003) provides general guidance on the scope of the veterans priority statute and its effect on current employment and training programs, and additional guidance is available at the “Jobs for Veterans Priority of Services Website” (http://www.doleta.gov/programs/ VETS/).

2. Cost Sharing or Matching

Is Cost Sharing or Matching Required for These Grants?

No, cost sharing or matching is not required, although leveraging of non-Federal resources is strongly encouraged. In addition, applicants will be selected, in part, based on their plans to tap such resources to support program activities.

IV. Application and Submission Information

1. Address To Request Application Package

This SGA includes all information and forms needed to apply for this funding opportunity.

2. Content and Form of Application Submission

What Are the Content and Form of Application Submission?

Each application must address one or more urban communities within a single metropolitan area. Applicants must submit an original signed application and three hard copies to the Department of Labor. The proposal must consist of two (2) separate and distinct parts. Applications that fail to adhere to the instructions in this section will be considered non-responsive and will not be considered.

Part 1 of the proposal is the Cost Proposal and must include the following three items:

• The Standard Form (SF) 424, “Application for Federal Assistance” (Appendix A). (also available at http://www.whitehouse.gov/omb/grants/sf424.pdf). The SF 424 must clearly identify the applicant and be signed by an individual with authority to enter into a grant agreement. Applicants are required to have a Dun and Bradstreet (DUNS) number which is a nine-digit identification number that uniquely identifies business entities. To obtain a DUNS number, access the Web site: www.dunandbradstreet.com or call 1-866-705-5711. Applicants must supply their DUNS number in item #5 of the new SF-424 issued by OMB (rev. 9-2003).

• The Budget Information Form SF-424A (Appendix B). (also available at http://www.whitehouse.gov/omb/grants/sf424a.pdf). In preparing the Budget information form, the applicant must provide a concise narrative explanation for each line item to support the request and should discuss precisely how the administrative costs support the project goals. Also provide a detailed back-up budget that includes the number of staff to be hired by job title.

The Equal Employment Opportunity Survey Form (Appendix C) is an optional part of the Cost Proposal.

Part 2 of the application is the Technical Proposal, which demonstrates the applicant's capabilities to plan and implement the Prisoner Reentry Initiative grant project in accordance with the provisions of this solicitation. The guidelines for the content of the Technical Proposal are provided in Section I(4) of this SGA. The Technical Proposal is limited to twenty (20) double-spaced single-sided pages with 12 point text font and one-inch margins. In addition, the applicant must provide letters of support from the criminal justice agencies which will release the prisoners and supervise their release in the community and the local Workforce Investment Board; a list of proposed staff positions to be funded by the grant; a Time Line outlining project activities; and a two-page Executive Summary. These additional materials do not count against the 20-page limit for the Technical proposal, but may not exceed fifteen (15) pages.

3. Submissions Dates, Times, and Address

Will There Be Informational Conferences for Organizations Planning To Apply?

There will be three information conferences held for this grant competition. The dates and locations of these information conferences will be posted concurrently on ETA's Web site at http://www.doleta.gov and DOJ's Web site at http://www.ojp.usdoj.gov/rentry. For potential applicants who cannot attend one of these conferences, a tape of the first conference will be available on both Web sites.

What Is the Closing Date for Applications?

The closing date for receipt of applications under this announcement is July 13, 2005. Applications must be received at the address below no later than 5 p.m. (eastern time). Applications sent by e-mail, telegram, or facsimile (fax) will not be accepted. Applications that do not meet the conditions set forth in this notice will not be considered. No exceptions to the mailing and delivery requirements set forth in this notice will be granted.

To What Address Should I Send My Application?

Mailed applications must be addressed to the U.S. Department of Labor, Employment and Training Administration, Division of Federal Assistance, Attention: Eric D. Luetkenhaus, Reference SGA/DFA PY04-08, 200 Constitution Avenue, NW., Room N-4438, Washington, DC 20210. Applicants are advised that mail delivery in the Washington area may be delayed due to mail decontamination procedures. Hand delivered proposals will be received at the above address. All overnight mail will be considered to be hand-delivered and must be received at the designated place by the specified closing date.

Applicants may apply online at http://www.grants.gov. Any application received after the deadline will not be accepted. For applicants submitting electronic applications via Grants.gov, it is strongly recommended that you immediately initiate and complete the “Get Started” steps to register with Grants.gov at http://www.grants.gov/GetStarted. These steps will probably take multiple days to complete which should be factored in to your plans for electronic application submission in order to avoid facing unexpected delays that could result in the rejection of your application.

Late Applications: Any application received after the exact date and time specified for receipt at the office designated in this notice will not be considered, unless it is received before awards are made and it (a) was sent by U.S. Postal Service registered or certified mail not later than the fifth calendar day before the date specified for receipt of applications (that is, no later than July 8, 2005) or (b) was sent by U.S. Postal Service Express Mail or Online to addressee not later than 5 p.m. at the place of mailing or electronic submission one working day prior to the date specified for receipt of applications (that is, no later than July 12, 2005). It is highly recommended that online submissions be completed one working day prior to the date specified for receipt of applications to ensure that the applicant still has the option to submit by U.S. Postal Service Express Mail in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness.

4. Intergovernmental Review

Is an Intergovernmental Review Required?

This funding opportunity is not subject to Executive Order (EO) 12372, “Intergovernmental Review of Federal Programs.”

5. Funding Restrictions

Are There Funding Restrictions?

All proposal costs must be necessary and reasonable in accordance with Federal guidelines. Determinations of allowable costs will be made in accordance with the applicable Federal cost principles, e.g., 29 CFR 95.27; Non-Profit Organizations—OMB Circular A-122. Disallowed costs are those charges to a grant that the grantor agency or its representative determines not to be allowed in accordance with the applicable Federal Cost Principles or other conditions contained in the grant. Applicants will not be entitled to reimbursement of pre-award costs.

The government is prohibited from providing direct support to religious activity.¹⁰ See 29 CFR part 2, subpart D. Provision relating to the use of indirect support (such as through vouchers) are at 29 CFR 2.33(c) and 20 CFR 667.266. These grants may not be used to directly support religious instruction, worship, prayer, proselytizing or other inherently religious practices. Neutral, secular criteria that neither favor nor disfavor religion must be employed in the selection of grant and sub-grant recipients. In addition, under the WIA and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

¹⁰ The term “direct” support is used to describe funds or other support that are provided “directly” by a governmental entity or an intermediate organization with the same duties as a governmental entity, as opposed to funds that an organization receives “indirectly” as the result of the genuine and independent private choice of a beneficiary within the meaning of the Establishment Clause of the U.S. Constitution.

DOL grant funds should not be used for pre-release services other than recruitment, introductory meetings, orientations, and other activities necessary to establishing program connections with prisoners prior to their release. This restriction on pre-release services does not apply to halfway houses. Additionally, grant funds should not be used to provide substance abuse treatment. Such treatment should be made available to persons enrolled in the program using resources available through partnerships with other agencies.

6. Other Submission Requirements

Can Applications Be Withdrawn?

Applications may be withdrawn by written notice or telegram (including mailgram) received at any time before an award is made. Applications may be withdrawn in person by the applicant or by an authorized representative thereof, if the representative's identity is made known and the representative signs a receipt for the proposal.

V. Application Review Information

1. Criteria for Review

What Will Be the Criteria for Award?

Panelists will rate proposals based on the following criteria, which are explained in detail in Section I(4) of this SGA.

(1) Need in the city and neighborhoods to be served (20 points);

(2) Project design and service strategy, including sustainability (25 points);

(3) Connections to the criminal justice system for referring prisoners to the program and coordinating services upon release (20 points);

(4) Quality and experience of lead FBCO, including ability to manage the project (25 points);

(5) Cost-effectiveness and leveraging of non-Federal resources (10 points).

2. Review and Selection Process

How Will Applications Be Reviewed and Selected?

Proposals that are timely and responsive to the requirements of this SGA will be rated against the criteria listed above by an independent panel comprised of representatives from DOL, DOJ, HUD, and HHS. The panel recommendations to the Grant Officer are advisory in nature. The Grant Officer may consider any information that comes to his or her attention. Final award decisions will be based on the best interests of the government, including consideration of geographic balance, program balance, and diversity. The Department may elect to award grants either with or without discussions with the applicant. In situations without discussion, an award will be based on the applicant's signature on the SF 424, which constitutes a binding offer.

VI. Award Administration Information

1. Award Notices

Award Notices—All award notifications will be made by mail and posted on the ETA home page at http://www.doleta.gov. Non-selected applicants will be notified by mail.

2. Administrative and National Policy Requirements

All grantees, including faith-based organizations, will be subject to all applicable Federal laws (including provisions of appropriation laws), regulations, and the applicable Office of Management and Budget (OMB) Circulars. The grant(s) awarded under this SGA must comply with all provisions of this solicitation and will be subject to the following administrative standards and provisions, as applicable to the particular grantee:

a. 20 Code of Federal Regulations (CFR) Part 667.220. (Administrative Costs).

b. Non-Profit Organizations—Office of Management and Budget (OMB) Circulars A-122 (Cost Principles) and 29 CFR Part 95 (Administrative Requirements).

c. Educational Institutions—OMB Circulars A-21 (Cost Principles) and 29 CFR Part 95 (Administrative Requirements).

d. All entities must comply with 29 CFR Parts 93 and 98, and, where applicable, 29 CFR Parts 96 and 99.

e. In accordance with Section 18 of the Lobbying Disclosure Act of 1995, Public Law 104-65 (2 U.S.C. 1611) non-profit entities incorporated under Internal Revenue Service Code section 501(c)(4) that engage in lobbying activities are not eligible to receive Federal funds and grants.

f. 29 CFR part 2, subpart D—Equal Treatment in Department of Labor Programs for Religious Organizations; Protection of Religious Liberty of Department of Labor Social Service Providers and Beneficiaries;

g. 29 CFR part 30—Equal Employment Opportunity in Apprenticeship and Training;

h. 29 CFR part 31—Nondiscrimination in Federally Assisted Programs of the Department of Labor—Effectuation of Title VI of the Civil Rights Act of 1964;

i. 29 CFR part 32—Nondiscrimination on the Basis of Handicap in Programs and Activities Receiving or Benefiting from Federal Financial Assistance;

j. 29 CFR part 33—Enforcement of Nondiscrimination on the Basis of Handicap in Programs or Activities Conducted by the Department of Labor;

k. 29 CFR part 35—Nondiscrimination on the Basis of Age in Programs or Activities Receiving Federal Financial Assistance from the Department of Labor;

l. 29 CFR part 36—Nondiscrimination on the Basis of Sex in Education Programs or Activities Receiving Federal Financial Assistance;

m. 29 CFR part 37—Implementation of the Nondiscrimination and Equal Opportunity Provisions of the Workforce Investment Act of 1998 (WIA).

Note: Except as specifically provided in this Notice, DOL/ETA's acceptance of a proposal and an award of Federal funds to sponsor any programs(s) does not provide a waiver of any grant requirements and/or procedures.

3. Reporting

What Reporting Will Be Required Under These Grants?

The grantee is required to provide the reports and documents listed below:

Quarterly Financial Reports. A Quarterly Financial Status Report (SF 269) is required until such time as all funds have been expended or the grant period has expired. Quarterly reports are due 30 days after the end of each calendar year quarter. Grantees must use ETA's On-Line Electronic Reporting System.

Quarterly Progress Reports. The grantee must submit a quarterly progress report to the designated Federal Project Officer within 30 days after the end of each quarter. Two copies are to be submitted providing a detailed account of activities undertaken during that quarter. DOL may require additional data elements to be collected and reported on either a regular basis or special request basis. Grantees must agree to meet DOL reporting requirements. The quarterly progress report should be in narrative form and should include:

1. In-depth information on accomplishments, including project success stories, upcoming grant activities, and promising approaches and processes.

2. Progress toward performance outcomes, including updates on product, curricula, and training development.

MIS Reports. FBCOs and their sub-grantees will be required to submit updated MIS data on enrollment, services provided, placements, outcomes, and follow-up status. A government-procured MIS system will be provided to all grantees. Grantees will be required to have industry-standard computer hardware and high-speed Internet access in order to use the MIS system. Grant funds may be used with the prior approval of the Grant Officer to upgrade computer hardware and Internet access to enable projects to use the MIS system.

Quarterly financial reports, quarterly progress reports, and MIS data will all be provided electronically.

VII. Agency Contacts

Any questions regarding this SGA should be faxed to Kevin Brumback, Grants Management Specialist, Division of Federal Assistance, FAX number (202) 693-2705. (This is not a toll-free number). You must specifically address your FAX to the attention of Kevin Brumback and should include SGA/DFA PY 04-08, a contact name, fax and phone number.

FOR FURTHER INFORMATION CONTACT: Please contact Kevin Brumback, Grants Management Specialist, Division of Federal Assistance, on (202) 693-3381. (This is not a toll-free number). This announcement is also being made available on the ETA Web site at http://www.doleta.gov/sga/sga.cfm and http://www.grants.gov.

Signed in Washington, DC, this 29th day of March, 2005.
Eric D. Luetkenhaus,
Grant Officer, Employment and Training Administration.

Appendix A: SF-424 Application for Federal Assistance

Appendix B: SF-424A Budget Form

Appendix C: OMB Survey N. 1890-0014: Survey on Ensuring Equal Opportunity for Applicants

BILLING CODE 4510-30-P

[FR Doc. 05-6484 Filed 3-31-05; 8:45 am]

BILLING CODE 4510-30-C